DEPARTMENT OF THE INTERIOR

U.S. Geological Survey

[USGS-8327-CMG61]

Proposed Information Collection; The State of Ecosystem Services Implementation Survey

AGENCY: United States Geological Survey (USGS), Interior.

ACTION: Notice; request for comments.

SUMMARY: We (the U.S. Geological Survey) will ask the Office of Management and Budget (OMB) to approve the information collection (IC) described below. As required by the Paperwork Reduction Act of 1995 and as part of our continuing efforts to reduce paperwork and respondent burden, we invite the general public and other Federal agencies to take this opportunity to comment on this IC. Please note that we may not conduct or sponsor and a person is not required to respond to a collection of information unless it displays a currently valid OMB control number.

DATES: To ensure that we are able to consider your comments to this IC, we must receive them on or before November 12, 2010.

ADDRESSES: Send your comments and suggestions on this IC to Phadrea Ponds, Information Collection Clearance Officer, U.S. Geological Survey, 2150-C Centre Avenue, Fort Collins, CO 80526 (mail); pondsp@usgs.gov (e-mail).

FOR FURTHER INFORMATION CONTACT: To request additional information about this IC, please contact USGS, Rudy Schuster by mail at 2150-C Centre Avenue, Fort Collins, CO 80526 or schusterr@usgs.gov (e-mail).

SUPPLEMENTARY INFORMATION:

I. Abstract

Ecosystem goods and services are defined by ecologists as the biophysical processes that give rise to social benefits. For example, in ecology, processes such as nutrient cycling, atmospheric regulation, pollination, and seed dispersal are considered ecosystem services. Indirect benefits are also considered; for example, recreation, avoided flood damage, and aesthetic benefits are also ecosystem services. In short, the benefits associated with an ecosystem service are the value that humans derive from that service. The objectives of this survey are to illustrate the various approaches that are being used to formulate ecosystem services projects and the state-of-the-art processes through which projects are implemented. The survey will gather information concerning: methods used in ecosystem services projects, motivations for conducting projects, degree of project implementation, management actions resulting from project results (for completed projects), and characteristics of projects that have successfully implemented ecosystem services concepts.

II. Data

OMB Control Number: 1028—NEW.

Title: The State of Ecosystem Services Implementation.

Type of Request: This is a new collection.

Affected Public: Individuals who are (currently or recently have been) engaged in conducting ecosystem services research projects; potential respondents will include: federal employees, non-governmental organization employees, and academic researchers. The population will include people from the United States as well as other nations.

Respondent's Obligation: Voluntary.

Frequency of Collection: On occasion.

Estimated Annual Number of Respondents: 350.

Estimated Total Annual Responses: 350.

Estimated Time per Response: 20 minutes.

Estimated Total Annual Burden Hours: 117 hours.

III. Request for Comments

We invite comments concerning this IC on: (a) Whether the proposed collection of information is necessary for the agency to perform its duties, including whether the information will have practical utility; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at anytime. While you can ask OMB in your comment to withhold your personal identifying information from public review, we cannot guarantee that will be done.

Dated: August 31, 2010.
Anne Kinsinger,
Associate Director for Biology, U.S. Geological Survey.

[FR Doc. 2010-22669 Filed 9-10-10; 8:45 am]

BILLING CODE 4311-AM-P